DEPARTMENT OF COMMERCE

International Trade Administration

[A-570-200]

Methylene Diphenyl Diisocyanate From the People's Republic of China: Initiation of Less-Than-Fair-Value Investigation

AGENCY: Enforcement and Compliance, International Trade Administration, Department of Commerce.

DATES: Applicable March 4, 2025.

FOR FURTHER INFORMATION CONTACT: Christopher Maciuba, Office II, AD/CVD Operations, Enforcement and Compliance, International Trade Administration, U.S. Department of Commerce, 1401 Constitution Avenue NW, Washington, DC 20230; telephone: (202) 482-0413.

SUPPLEMENTARY INFORMATION:

The Petition

On February 12, 2025, the U.S. Department of Commerce (Commerce) received an antidumping duty (AD) petition concerning imports of methylene diphenyl diisocyanate (MDI) from the People's Republic of China (China) filed in proper form on behalf of the Ad Hoc MDI Fair Trade Coalition (the petitioner).¹

¹ See Petitioner's Letter, “Petition for the Imposition of Antidumping Duties on Imports of Methylene Diphenyl Diisocyanate from China,” dated February 12, 2025 (Petition). The members of the Ad Hoc MDI Fair Trade Coalition are BASF Corporation and The Dow Chemical Company.

Between February 14 and 26, 2025, Commerce requested supplemental information pertaining to certain aspects of the Petition in supplemental questionnaires.² Between February 20 and 28, 2025, the petitioner filed timely responses to these requests for additional information.³

² See Commerce's Letters, “Supplemental Questions,” dated February 14, 2025 (First General Issues Questionnaire); “Supplemental Questions,” dated February 14, 2025; “Supplemental Questions,” dated February 24, 2025; and “Supplemental Questions,” dated February 26, 2025 (Second General Issues Questionnaire).

³ See Petitioner's Letters, “Petitioner's Response to Volume I Supplemental Questionnaire,” dated February 20, 2025 (First General Issues Supplement); “Petitioner's Response to Volume II Supplemental Questionnaire,” dated February 20, 2025; see also “Petitioner's Response to Volume II Second Supplemental Questionnaire,” dated February 26, 2025; and “Petitioner's Response to the February 26, 2025, General Issues Supplemental Questionnaire,” dated February 28, 2025 (Second General Issues Supplement).

In accordance with section 732(b) of the Tariff Act of 1930, as amended (the Act), the petitioner alleges that imports of MDI from China are being, or are likely to be, sold in the United States at less than fair value (LTFV) within the meaning of section 731 of the Act, and that imports of such products are materially injuring, or threatening material injury to, the MDI industry in the United States. Consistent with section 732(b)(1) of the Act, the Petition was accompanied by information reasonably available to the petitioner supporting its allegations.

Commerce finds that the petitioner filed the Petition on behalf of the domestic industry, because the petitioner is an interested party, as defined in section 771(9)(F) of the Act.⁴ Commerce also finds that the petitioner demonstrated sufficient industry support for the initiation of the requested LTFV investigation.⁵

⁴ The members of the petitioning coalition are interested parties under section 771(9)(C) of the Act.

⁵ See section on “Determination of Industry Support for the Petition,” infra.

Period of Investigation

Because the Petition was filed on February 12, 2025, and because China is a non-market economy (NME) country, pursuant to 19 CFR 351.204(b)(1), the period of investigation (POI) for the LTFV investigation is July 1, 2024, through December 31, 2024.

Scope of the Investigation

The product covered by this investigation is MDI from China. For a full description of the scope of this investigation, see the appendix to this notice.

Comments on the Scope of the Investigation

On February 14 and 26, 2025, Commerce requested information and clarification from the petitioner regarding the proposed scope to ensure that the scope language in the Petition is an accurate reflection of the products for which the domestic industry is seeking relief.⁶ On February 20 and 28, 2025, the petitioner provided clarifications and revised the scope.⁷ The description of merchandise covered by this investigation, as described in the appendix to this notice, reflects these clarifications.

⁶ See First General Issues Questionnaire; see also Second General Issues Questionnaire.

⁷ See First General Issues Supplement at 2-5 and Exhibit I-S2; see also Second General Issues Supplement at 1-5 and Exhibits I-SS1 and I-SS2; and Memorandum, “Phone Call with Counsel to the Petitioner,” dated February 28, 2025.

As discussed in the Preamble to Commerce's regulations, we are setting aside a period for interested parties to raise issues regarding product coverage (i.e., scope).⁸ Commerce will consider all scope comments received from interested parties and, if necessary, will consult with interested parties prior to the issuance of the preliminary determination. If scope comments include factual information,⁹ all such factual information should be limited to public information. To facilitate preparation of its questionnaires, Commerce requests that scope comments be submitted by 5 p.m. Eastern Time (ET) on March 24, 2025, which is 20 calendar days from the signature date of this notice. Any rebuttal comments, which may include factual information, and should also be limited to public information, must be filed by 5 p.m. ET on April 3, 2025, which is 10 calendar days from the initial comment deadline.

⁸ See Antidumping Duties; Countervailing Duties, Final Rule, 62 FR 27296, 27323 (May 19, 1997) (Preamble); see also 19 CFR 351.312.

⁹ See 19 CFR 351.102(b)(21) (defining “factual information”).

Commerce requests that any factual information that parties consider relevant to the scope of this investigation be submitted during that period. However, if a party subsequently finds that additional factual information pertaining to the scope of the investigation may be relevant, the party must contact Commerce and request permission to submit the additional information.

Filing Requirements

All submissions to Commerce must be filed electronically via Enforcement and Compliance's Antidumping Duty and Countervailing Duty Centralized Electronic Service System (ACCESS), unless an exception applies.¹⁰ An electronically filed document must be received successfully in its entirety by the time and date it is due.

¹⁰ See Antidumping and Countervailing Duty Proceedings: Electronic Filing Procedures; Administrative Protective Order Procedures, 76 FR 39263 (July 6, 2011); see also Enforcement and Compliance: Change of Electronic Filing System Name, 79 FR 69046 (November 20, 2014) for details of Commerce's electronic filing requirements, effective August 5, 2011. Information on using ACCESS can be found at https://access.trade.gov/help.aspx and a handbook can be found at https://access.trade.gov/help/Handbook_on_Electronic_Filing_Procedures.pdf.

Comments on Product Characteristics

Commerce is providing interested parties an opportunity to comment on the appropriate physical characteristics of MDI to be reported in response to Commerce's AD questionnaires. This information will be used to identify the key physical characteristics of the subject merchandise in order to report the relevant factors of production (FOP) accurately, as well as to develop appropriate product comparison criteria.

Interested parties may provide any information or comments that they feel are relevant to the development of an accurate list of physical characteristics. In order to consider the suggestions of interested parties in developing and issuing the AD questionnaires, all product characteristics comments must be filed by 5 p.m. ET on March 24, 2025, which is 20 calendar days from the signature date of this notice. Any rebuttal comments must be filed by 5 p.m. ET on April 3, 2025, which is 10 calendar days from the initial comment deadline. All comments and submissions to Commerce must be filed electronically using ACCESS, as explained above, on the record of the LTFV investigation.

Determination of Industry Support for the Petition

Section 732(b)(1) of the Act requires that a petition be filed on behalf of the domestic industry. Section 732(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC must apply the same statutory definition regarding the domestic like product,¹¹ they do so for different purposes and pursuant to a separate and distinct authority. In addition, Commerce's determination is subject to limitations of time and information. Although this may result in different definitions of the like product, such differences do not render the decision of either agency contrary to law.¹²

¹¹ See section 771(10) of the Act.

¹² See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigation.¹³ Based on our analysis of the information submitted on the record, we have determined that MDI, as defined in the scope, constitutes a single domestic like product, and we have analyzed industry support in terms of that domestic like product.¹⁴

¹³ See Petition at Volume I (pages 18-23 and Exhibits I-13 and I-14); see also First General Issues Supplement at 8-10.

¹⁴ For a discussion of the domestic like product analysis as applied to these cases and information regarding industry support, see Checklist, “Methylene Diphenyl Diisocyanate from the People's Republic of China,” dated concurrently with, and hereby adopted by, this notice (China AD Initiation Checklist) at Attachment II, “Analysis of Industry Support for the Analysis of Industry Support for the Antidumping Duty Petition Covering Methylene Diphenyl Diisocyanate from the People's Republic of China.” These checklists are on file electronically via ACCESS.

In determining whether the petitioner has standing under section 732(c)(4)(A) of the Act, we considered the industry support data contained in the Petition with reference to the domestic like product as defined in the “Scope of the Investigation,” in the appendix to this notice. To establish industry support, the petitioner provided the 2024 production of the domestic like product for the supporters of the Petition and compared this to the estimated total production of the domestic like product for the entire domestic industry.¹⁵ We relied on data provided by the petitioner for purposes of measuring industry support.¹⁶

¹⁵ For further discussion, see Attachment II of the China AD Initiation Checklist.

¹⁶ Id.

Our review of the data provided in the Petition, the First General Issues Supplement, and other information readily available to Commerce indicates that the petitioner has established industry support for the Petition.¹⁷ First, the Petition established support from domestic producers (or workers) accounting for more than 50 percent of the total production of the domestic like product and, as such, Commerce is not required to take further action in order to evaluate industry support (e.g., polling).¹⁸ Second, the domestic producers (or workers) have met the statutory criteria for industry support under section 732(c)(4)(A)(i) of the Act because the domestic producers (or workers) who support the Petition account for at least 25 percent of the total production of the domestic like product.¹⁹ Finally, the domestic producers (or workers) have met the statutory criteria for industry support under section 732(c)(4)(A)(ii) of the Act because the domestic producers (or workers) who support the Petition account for more than 50 percent of the production of the domestic like product produced by that portion of the industry expressing support for, or opposition to, the Petition.²⁰ Accordingly, Commerce determines that the Petition was filed on behalf of the domestic industry within the meaning of section 732(b)(1) of the Act.²¹

¹⁷ Id.

¹⁸ Id.; see also section 732(c)(4)(D) of the Act.

¹⁹ See Attachment II of the China AD Initiation Checklist.

²⁰ Id.

²¹ Id.

Allegations and Evidence of Material Injury and Causation

The petitioner alleges that the U.S. industry producing the domestic like product is being materially injured, or is threatened with material injury, by reason of the imports of the subject merchandise sold at LTFV. In addition, the petitioner alleges that subject imports exceed the negligibility threshold provided for under section 771(24)(A) of the Act.²²

²² For further discussion, see China AD Initiation Checklist at Attachment III, “Analysis of Allegations and Evidence of Material Injury and Causation for the Antidumping Duty Petition Covering Methylene Diphenyl Diisocyanate from the People's Republic of China.”

The petitioner contends that the industry's injured condition is illustrated by a significant and increasing volume of subject imports; increased subject market share; underselling and price depression and/or suppression; lost sales and revenues; declines in domestic producers' U.S. shipments, production, and capacity utilization; adverse impact on financial performance; and negative impact on the existing development and production efforts of the domestic industry.²³ We assessed the allegations and supporting evidence regarding material injury, threat of material injury, causation, as well as negligibility, and we have determined that these allegations are properly supported by adequate evidence, and meet the statutory requirements for initiation.²⁴

²³ Id.

²⁴ Id.

Allegations of Sales at LTFV

The following is a description of the allegations of sales at LTFV upon which Commerce based its decision to initiate an LTFV investigation of imports of MDI from China. The sources of data for the deductions and adjustments relating to U.S. price and normal value (NV) are discussed in greater detail in the China AD Initiation Checklist.

U.S. Price

The petitioner based export price (EP) on the following: (1) the POI average unit value (AUV) derived from official import statistics for imports of MDI from China into the United States, (2) a transaction-specific AUV (i.e. month- and port-specific AUV) derived from official import statistics and tied to ship manifest data, and (3) pricing information for MDI produced in China and offered for sale in the United States during the POI.²⁵ The petitioner made certain adjustments to U.S. price to calculate a net ex-factory U.S. price, where applicable.²⁶

²⁵ See China AD Initiation Checklist.

²⁶ Id.

Normal Value

Commerce considers China to be an NME country.²⁷ In accordance with section 771(18)(C)(i) of the Act, any determination that a foreign country is an NME country shall remain in effect until revoked by Commerce. Therefore, we continue to treat China as an NME country for purposes of the initiation of this LTFV investigation. Accordingly, we base NV on FOPs valued in a surrogate market economy country in accordance with section 773(c) of the Act.

²⁷ See, e.g., Certain Freight Rail Couplers and Parts Thereof from the People's Republic of China: Preliminary Affirmative Determination of Sales at Less Than Fair Value and Preliminary Affirmative Determination of Critical Circumstances, 88 FR 15372 (March 13, 2023), and accompanying Preliminary Decision Memorandum at 5, unchanged in Certain Freight Rail Couplers and Parts Thereof from the People's Republic of China: Final Affirmative Determination of Sales at Less-Than-Fair Value and Final Affirmative Determination of Critical Circumstances, 88 FR 34485 (May 30, 2023).

The petitioner claims that Malaysia is an appropriate surrogate country for China because it is a market economy that is at a level of economic development comparable to that of China and is a significant producer of comparable merchandise.²⁸ The petitioner provided publicly available information from Malaysia to value all FOPs except labor.²⁹ Consistent with Commerce's recent practice in cases involving Malaysia as a surrogate country,³⁰ to value labor, the petitioner provided labor statistics from another surrogate country, Mexico.³¹ Based on the information provided by the petitioner, we believe it is appropriate to use Malaysia as a surrogate country for China to value all FOPs except labor and to value labor using labor statistics from Mexico for initiation purposes.

²⁸ See China AD Initiation Checklist.

²⁹ Id.

³⁰ See, e.g., Certain Collated Steel Staples from the People's Republic of China: Final Results of Antidumping Duty Administrative Review; and Final Determination of No Shipments; 2021-2022, 88 FR 85242 (December 7, 2023), and accompanying Issues and Decision Memorandum (IDM) at Comment 2; and Light-Walled Rectangular Pipe and Tube from the People's Republic of China: Final Results of Antidumping Duty Administrative Review, 88 FR 15671 (March 14, 2023), and accompanying IDM at Comment 2.

³¹ See China AD Initiation Checklist.

Interested parties will have the opportunity to submit comments regarding surrogate country selection and, pursuant to 19 CFR 351.301(c)(3)(i), will be provided an opportunity to submit publicly available information to value FOPs within 30 days before the scheduled date of the preliminary determination.

Factors of Production

Because information regarding the volume of inputs consumed by Chinese producers/exporters was not reasonably available, the petitioner used a U.S. producer's production experience and product-specific consumption rates as a surrogate to value Chinese manufacturers' FOPs.³² Additionally, the petitioner calculated factory overhead, selling, general, and administrative expenses, and profit based on the experience of a Malaysian producer of comparable merchandise.³³

³² Id.

³³ Id.

Fair Value Comparisons

Based on the data provided by the petitioner, there is reason to believe that imports of MDI from China are being, or are likely to be, sold in the United States at LTFV. Based on comparisons of EP to NV in accordance with sections 772 and 773 of the Act, the estimated dumping margins for MDI from China covered by this initiation range from 305.81 to 511.75 percent.³⁴

³⁴ Id.

Initiation of LTFV Investigation

Based upon the examination of the Petition and supplemental responses, we find that they meet the requirements of section 732 of the Act. Therefore, we are initiating a LTFV investigation to determine whether imports of MDI are being, or are likely to be, sold in the United States at LTFV. In accordance with section 733(b)(1)(A) of the Act and 19 CFR 351.205(b)(1), unless postponed, we will make our preliminary determination no later than 140 days after the date of this initiation.

Respondent Selection

In the Petition, the petitioner identified eight companies in China as producers and/or exporters of MDI.³⁵ Our standard practice for respondent selection in AD investigations involving NME countries is to select respondents based on quantity and value (Q&V) questionnaires in cases where Commerce has determined that the number of companies is large, and it cannot individually examine each company based upon its resources. Therefore, considering the number of producers and/or exporters identified in the Petition, Commerce will solicit Q&V information that can serve as a basis for selecting exporters for individual examination in the event that Commerce determines that the number is large and decides to limit the number of respondents individually examined pursuant to section 777A(c)(2) of the Act. Because there are eight Chinese producers and/or exporters identified in the Petition, Commerce has determined that it will issue Q&V questionnaires to each potential respondent for which there is complete address information on the record.

³⁵ See Petition at Volume I (page 18 and Exhibit I-10); see also First General Issues Supplement at 1 and Exhibit I-S1.

Commerce will post the Q&V questionnaires along with filing instructions on Commerce's website at https://www.trade.gov/ec-adcvd-case-announcements. Producers/exporters of MDI from China that do not receive Q&V questionnaires may still submit a response to the Q&V questionnaire and can obtain a copy of the Q&V questionnaire from Commerce's website. Responses to the Q&V questionnaire must be submitted by the relevant Chinese producers/exporters no later than 5 p.m. ET on March 18, 2025, which is two weeks from the signature date of this notice. All Q&V questionnaire responses must be filed electronically via ACCESS. An electronically filed document must be received successfully, in its entirety, by ACCESS no later than 5 p.m. ET on the deadline noted above.

Interested parties must submit applications for disclosure under administrative protective order (APO) in accordance with 19 CFR 351.305(b). As stated above, instructions for filing such applications may be found on Commerce's website at https://www.trade.gov/administrative-protective-orders.

Separate Rates

In order to obtain separate rate status in an NME investigation, exporters and producers must submit a separate rate application. The specific requirements for submitting a separate rate application in an NME investigation are outlined in detail in the application itself, which is available on Commerce's website at https://access.trade.gov/Resources/nme/nme-sep-rate.html. Note that Commerce recently promulgated new regulations pertaining to separate rates, including the separate rate application deadline and eligibility for separate rate status, in 19 CFR 351.108.³⁶ Pursuant to 19 CFR 351.108(d)(1), the separate rate application will be due 21 days after publication of this initiation notice.³⁷ Exporters and producers must file a timely separate rate application if they want to be considered for individual examination. In addition, pursuant to 19 CFR 351.108(e), exporters and producers who submit a separate rate application and have been selected as mandatory respondents will be eligible for consideration for separate rate status only if they fully respond to all parts of Commerce's AD questionnaire and participate in the LTFV proceeding as mandatory respondents.³⁸ Commerce requires that companies from China submit a response both to the Q&V questionnaire and to the separate rate application by the respective deadlines to receive consideration for separate rate status. Companies not filing a timely Q&V questionnaire response will not receive separate rate consideration.

³⁶ See Regulations Enhancing the Administration of the Antidumping and Countervailing Duty Trade Remedy Laws, 89 FR 101694, 101759-60 (December 16, 2024).

³⁷ See 19 CFR 351.108(d)(1).

³⁸ See 19 CFR 351.108(e).

Use of Combination Rates

Commerce will calculate combination rates for certain respondents that are eligible for a separate rate in an NME investigation. The Separate Rates and Combination Rates Bulletin states:

{w}hile continuing the practice of assigning separate rates only to exporters, all separate rates that {Commerce} will now assign in its NME investigation will be specific to those producers that supplied the exporter during the period of investigation. Note, however, that one rate is calculated for the exporter and all of the producers which supplied subject merchandise to it during the period of investigation. This practice applies both to mandatory respondents receiving an individually calculated separate rate as well as the pool of non-investigated firms receiving the {weighted average} of the individually calculated rates. This practice is referred to as the application of “combination rates” because such rates apply to specific combinations of exporters and one or more producers. The cash-deposit rate assigned to an exporter will apply only to merchandise both exported by the firm in question and produced by a firm that supplied the exporter during the period of investigation.³⁹

³⁹ See Enforcement and Compliance's Policy Bulletin No. 05.1, regarding, “Separate-Rates Practice and Application of Combination Rates in Antidumping Investigation involving NME Countries,” (April 5, 2005), at 6 (emphasis added), available on Commerce's website at https://access.trade.gov/Resources/policy/bull05-1.pdf.

Distribution of Copy of the Petition

In accordance with section 732(b)(3)(A) of the Act and 19 CFR 351.202(f), a copy of the public version of the Petition has been provided to the Government of China via ACCESS. To the extent practicable, we will attempt to provide a copy of the public version of the Petition to each exporter named in the Petition, as provided under 19 CFR 351.203(c)(2).

ITC Notification

Commerce will notify the ITC of our initiation, as required by section 732(d) of the Act.

Preliminary Determination by the ITC

The ITC will preliminarily determine, within 45 days after the date on which the Petition was filed, whether there is a reasonable indication that imports of MDI from China are materially injuring, or threatening material injury to, a U.S. industry.⁴⁰ A negative ITC determination will result in the investigation being terminated.⁴¹ Otherwise, this LTFV investigation will proceed according to statutory and regulatory time limits.

⁴⁰ See section 733(a) of the Act.

⁴¹ Id.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴² and, if the information is submitted to rebut, clarify, or correct factual information already on the record, to provide an explanation identifying the information already on the record that the factual information seeks to rebut, clarify, or correct.⁴³ Time limits for the submission of factual information are addressed in 19 CFR 351.301, which provides specific time limits based on the type of factual information being submitted. Interested parties should review the regulations prior to submitting factual information in this investigation.

⁴² See 19 CFR 351.301(b).

⁴³ See 19 CFR 351.301(b)(2).

Time Limits for Submission of Factual Information in Response to Questionnaires

Section 351.301(c) of Commerce's regulations states that during a proceeding, Commerce may issue to any person questionnaires, which includes both initial and supplemental questionnaires. For all investigations initiated after January 15, 2025, the following time limits apply:

(i) Initial questionnaire responses are due 30 days from the date of receipt of such questionnaire. The time limit for response to individual sections of the questionnaire, if Commerce requests a separate response to such sections, may be less than the 30 days allotted for response to the full questionnaire. In general, the date of receipt will be considered to be seven days from the date on which the initial questionnaire was transmitted.

(ii) Supplemental questionnaire responses are due on the date specified by Commerce.

(iii) A notification by an interested party, under section 782(c)(1) of the Act, of difficulties in submitting information in response to a questionnaire issued by Commerce is to be submitted in writing within 14 days after the date of the questionnaire or, if the questionnaire is due in 14 days or less, within the time specified by Commerce.

(iv) A respondent interested party may request in writing that Commerce conduct a questionnaire presentation. Commerce may conduct a questionnaire presentation if Commerce notifies the government of the affected country and that government does not object.

(v) Factual information submitted to rebut, clarify, or correct questionnaire responses. Within 14 days after an initial questionnaire response and within 10 days after a supplemental questionnaire response has been filed with Commerce, an interested party other than the original submitter is permitted one opportunity to submit factual information to rebut, clarify, or correct factual information contained in the questionnaire response. Within seven days of the filing of such rebuttal, clarification, or correction to a questionnaire response, the original submitter of the questionnaire response is permitted one opportunity to submit factual information to rebut, clarify, or correct factual information submitted in the interested party's rebuttal, clarification or correction. Commerce will reject any untimely filed rebuttal, clarification, or correction submission and provide, to the extent practicable, written notice stating the reasons for rejection. If insufficient time remains before the due date for the final determination or final results of review, Commerce may specify shorter deadlines under this section.

Extensions of Time Limits

Parties may request an extension of time limits before the expiration of a time limit established under 19 CFR 351.301, or as otherwise specified by Commerce. In general, an extension request will be considered untimely if it is filed after the expiration of the time limit established under 19 CFR 351.301, or as otherwise specified by Commerce.⁴⁴ For submissions that are due from multiple parties simultaneously, an extension request will be considered untimely if it is filed after 10 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in this investigation.⁴⁵

⁴⁴ See 19 CFR 351.301; see also Extension of Time Limits; Final Rule, 78 FR 57790 (September 20, 2013) (Time Limits Final Rule), available at https://www.gpo.gov/fdsys/pkg/FR-2013-09-20/html/2013-22853.htm.

⁴⁵ See 19 CFR 351.302; see also, e.g., Time Limits Final Rule.

Certification Requirements

Any party submitting factual information in an AD or CVD proceeding must certify to the accuracy and completeness of that information.⁴⁶ Parties must use the certification formats provided in 19 CFR 351.303(g).⁴⁷ Commerce intends to reject factual submissions if the submitting party does not comply with the applicable certification requirements.

⁴⁶ See section 782(b) of the Act.

⁴⁷ See Certification of Factual Information to Import Administration During Antidumping and Countervailing Duty Proceedings, 78 FR 42678 (July 17, 2013) (Final Rule). Additional information regarding the Final Rule is available at https://access.trade.gov/Resources/filing/index.html.

Notification to Interested Parties

Interested parties must submit applications for disclosure under APO in accordance with 19 CFR 351.305. Parties wishing to participate in this investigation should ensure that they meet the requirements of 19 CFR 351.103(d) (e.g., by filing the required letter of appearance). Note that Commerce has amended certain of its requirements pertaining to the service of documents in 19 CFR 351.303(f).⁴⁸

⁴⁸ See Administrative Protective Order, Service, and Other Procedures in Antidumping and Countervailing Duty Proceedings, 88 FR 67069 (September 29, 2023).

This notice is issued and published pursuant to sections 732(c)(2) and 777(i) of the Act, and 19 CFR 351.203(c).

Dated: March 4, 2025.
Christopher Abbott,
Deputy Assistant Secretary for Policy and Negotiations, performing the non-exclusive functions and duties of the Assistant Secretary for Enforcement and Compliance.

Appendix

Scope of the Investigation

The merchandise subject to this investigation is methylene diphenyl diisocyanate (MDI), which is an aromatic polyisocyanate material whose composition includes two or more isocyanate groups (i.e., functional group containing a nitrogen atom, a carbon atom, and an oxygen atom bonded together (-NCO)) attached to one or more benzene rings (i.e., flat, symmetrical molecule made up of six carbon atoms arranged in a hexagonal ring and has the chemical formula C6H6) that are joined by methylene bridges (i.e., a carbon atom bound to two hydrogen atoms (-CH2-) and connected by single bonds to two other distinct atoms in the rest of the molecule). MDI is commonly called Polymeric, Monomeric, or Modified MDI and may also be referred to under other names, including Methylene bisphenyl isocyanate, 4,4′-Diphenylmethane diisocyanate, Methylene di-p-phenylene ester of isocyanic acid, Methylene bis(4-phenyl isocyanate), and polymethylene polyphenylene isocyanate. MDI is normally associated with Chemical Abstracts Service (CAS) registry numbers 9016-87-9, 101-68-8, 5873-54-1, 2536-05-2, 1689576-89-3, 25686-28-6, 26447-40-5, and 39310-05-9, but several others are also used.

MDI ranges in physical form from low viscosity liquids to solids. MDI is covered by the scope of this investigation irrespective of whether it has gone through a distillation process and regardless of acid content, reactivity, functionality, freeze stability, physical form, viscosity, grade, purity, molecular weight, or packaging.

MDI may contain additives, such as catalysts, solvents, plasticizers, antioxidants, fire retardants, colorants, pigments, diluents, thickeners, fillers, softeners, toughening agents. The scope does not include mixtures of MDI with other materials, when the combined MDI component comprises less than 40 percent of the total weight of the mixture.

MDI may be partially reacted with itself, polyol, or polyamines, and retain MDI component that has not fully chemically reacted so as to convert it into a different product no longer containing isocyanate groups. These products are known as homopolymer, uretonimine MDI, carbodiimide MDI, or prepolymers. The scope does not include partially reacted MDI when its NCO content is less than 10 weight percentage.

For MDI that enter as part of a system with separately packaged resin consisting mostly of a chemical compound that has an OH reactive group, including polyol, only the MDI portion of the system is included in the scope. The scope does not include any separately packaged polyol that would not fall within the scope if entered on its own.

The scope includes merchandise matching the above description that has been processed in a third country, including by commingling, diluting, introducing or removing additives, or performing any other processing that would not otherwise remove the merchandise from the scope of the investigation if performed in the subject country.

The scope also includes MDI that is commingled or blended with MDI from sources not subject to this investigation. Only the subject component of such commingled products is covered by the scope of this investigation.

This merchandise is currently classifiable under Harmonized Tariff Schedule of the United States (HTSUS) subheadings 2929.10.8010 and 3909.31.0000. Subject merchandise may also be entered under subheadings 3824.99.2600, 3909.50.1000, 3909.50.2000, 3909.50.5000, 3824.99.2900, 3506.91.5000, 3911.90.4500, 3921.13.5000, and 3920.99.5000. The HTSUS subheadings are provided for convenience and customs purposes only; the written description of the scope is dispositive.

[FR Doc. 2025-03823 Filed 3-10-25; 8:45 am]

BILLING CODE 3510-DS-P